DEPARTMENT OF THE INTERIOR

National Park Service

[NPS-WASO-NAGPRA-NPS0028680; PPWOCRADN0-PCU00RP14.R50000]

Notice of Inventory Completion: Texas Archeological Research Laboratory, University of Texas at Austin, Austin, TX

AGENCY: National Park Service, Interior.

ACTION: Notice.

SUMMARY: The Texas Archeological Research Laboratory, University of Texas at Austin has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Texas Archeological Research Laboratory, University of Texas at Austin. If no additional requestors come forward, transfer of control of these human remains to the lineal descendants, Indian Tribes, or Native Hawaiian organizations stated in this notice may proceed.

DATES: Lineal descendants or representatives of any Indian Tribe or Native Hawaiian organization not identified in this notice that wish to request transfer of control of these human remains should submit a written request with information in support of the request to the Texas Archeological Research Laboratory, University of Texas at Austin at the address in this notice by October 3, 2019.

ADDRESSES: Marybeth Tomka, Head of Collections, Texas Archeological Research Laboratory, University of Texas at Austin, 1 University Station, R7500, Austin, TX 78712-0100, telephone (512) 475-6853, email marybeth.tomka@austin.utexas.edu.

SUPPLEMENTARY INFORMATION: Notice is here given in accordance with the Native American Graves Protection and Repatriation Act (NAGPRA), 25 U.S.C. 3003, of the completion of an inventory of human remains under the control of the Texas Archeological Research Laboratory, University of Texas at Austin, Austin, TX. The human remains were removed from Loco Bottom site (41NA23), located within the Bayou Loco Reservoir, now known as Lake Nacogdoches, Nacogdoches County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Texas Archeological Research Laboratory, University of Texas at Austin professional staff in consultation with representatives of the Caddo Nation of Oklahoma.

History and Description of the Remains

In 1972, human remains representing, at minimum, one individual were removed from the Loco Bottom site (41NA23) in Nacogdoches, TX, during a testing project, following the survey of the middle reaches of Bayou Loco, prior to the proposed creation of Lake Nacogdoches. The site was first recorded in July by the Texas Archeological Survey (a contracting arm of the Texas Archeological Research Lab [TARL]). The Nacogdoches Archeological Society (NAS), led by Thomas Mayhew, conducted test excavations at the central part of the Loco Bottom site, during which 15 five-by-five foot units in an L-shaped trench were excavated. The ancestral human remains were found commingled with faunal remains from the disturbed plow zone in one unit labeled Lot 12.

In the absence of a previous detailed assessment, a new effort to document the site included a faunal analysis in 2019 by Kristin Corl, an independent contractor, at which time an inferior fragment of a juvenile mastoid process was identified among the faunal material. No sex or additional aspects of the biological profile could be determined. The human remains were segregated from the faunal material and reported to TARL collections staff. The human remains have been assigned an HO# 4156 for the Bayou Loco Reservoir Project (Acc# TARL 1975.0003). No known individuals were identified. No associated funerary objects are present.

Originally recorded in 1930, The Loco Bottom site (41NA23) is an ancestral Caddo settlement that was principally lived in year-round by Caddo farming peoples in the late 17th century, during the Allen phase. This site along Bayou Loco had one to several ancestral Caddo houses with associated trash midden deposits. Settlements of this type were probably occupied by Caddo families for, at most, 1-2 generations, before farmsteads moved to another location in the valley or they were abandoned. Due to plowing, the attribution of the reported ancestral human remains to the Allen phase is based on the preponderance of the archeological evidence. The determination of cultural affiliation was based on the geographical location of the human remains within the ancestral Caddo settlement, as well as the character of the recovered archeological materials from the site.

Determinations Made by the Texas Archeological Research Laboratory, University of Texas at Austin

Officials of the Texas Archeological Research Laboratory, University of Texas at Austin have determined that:

• Pursuant to 25 U.S.C. 3001(9), the human remains described in this notice represent the physical remains of one individual of Native American ancestry.

• Pursuant to 25 U.S.C. 3001(2), there is a relationship of shared group identity that can be reasonably traced between the Native American human remains and the Caddo Nation of Oklahoma.

Additional Requestors and Disposition

Lineal descendants or representatives of any Indian Tribe or Native Hawaiian organization not identified in this notice that wish to request transfer of control of these human remains should submit a written request with information in support of the request to Marybeth Tomka, Head of Collections, Texas Archeological Research Laboratory, The University of Texas at Austin, 1 University Station, R7500, Austin, TX 78712-0100, telephone (512) 475-6853, email marybeth.tomka@austin.utexas.edu, by October 3, 2019. After that date, if no additional requestors have come forward, transfer of control of the human remains to the Caddo Nation of Oklahoma may proceed.

The Texas Archeological Research Laboratory, University of Texas at Austin is responsible for notifying the Caddo Nation of Oklahoma that this notice has been published.

Dated: August 8, 2019.
Melanie O'Brien,
Manager, National NAGPRA Program.

[FR Doc. 2019-18863 Filed 8-30-19; 8:45 am]

BILLING CODE 4312-52-P